DEPARTMENT OF ENERGY

Federal Energy Regulatory Commission

[Docket Nos. CP02-11-000,CP02-12-000 and CP02-13-000]

Western Frontier Pipeline, L.L.C.; Notice of Intent To Prepare an Environmental Impact Statement for the Proposed Western Frontier Pipeline Project, Request for Comments on Environmental Issues, and Notice of Public Scoping Meetomgs amd Site Visit

November 7, 2001.

The staff of the Federal Energy Regulatory Commission (FERC or Commission) will prepare an environmental impact statement (EIS) that will discuss the environmental impacts of the Western Frontier Pipeline, L.L.C. (Western Frontier) Western Frontier Pipeline Project in Colorado, Kansas, and Oklahoma.¹ These facilities would consist of about 409 miles of pipeline and 20,000 horsepower (hp) of compression. This EIS will be used by the Commission in its decision-making process to determine whether the project is in the public convenience and necessity.

¹ Western Frontier Pipeline, L.L.C.'s application in Docket Nos. CP02-11-000, CP02-12-000 and CP02-13-000 was filed with the Commission under section 7(c) of the Natural Gas Act.

If you are a landowner on Western Frontier's proposed route and receive this notice, you may be contacted by a pipeline company representative about the acquisition of an easement to construct, operate, and maintain the proposed facilities. The pipeline company would seek to negotiate a mutually acceptable agreement. However, if the project is approved by the Commission, that approval conveys with it the right of eminent domain. Therefore, if easement negotiations fail to produce an agreement, the pipeline company could initiate condemnation proceedings in accordance with state law.

A fact sheet prepared by the FERC entitled “An Interstate Natural Gas Facility On My Land? What Do I Need To Know?” was attached to the project notice Western Frontier provided to landowners along and adjacent to the proposed route. This fact sheet addresses a number of typically asked questions, including the use of eminent domain and how to participate in the Commission's proceedings. It is available for viewing on the FERC Internet website (www.ferc.gov).

This notice is being sent to landowners of property crossed by and adjacent to Western Frontier's proposed route; Federal, state, and local agencies; elected officials; environmental and public interest groups; and local libraries and newspapers. Additionally, with this notice we are asking those Federal, state, local and tribal agencies with jurisdiction and/or special expertise with respect to environmental issues to cooperate with us in the preparation of the EIS. These agencies may choose to participate once they have evaluated the proposal relative to their agencies' responsibilities. Agencies who would like to request cooperating agency status should follow the instructions for filing comments described below.

Summary of the Proposed Project

Western Frontier proposes to build new natural gas pipeline and compression facilities to transport 540,000 dekatherms per day (Dth/d) of natural gas from the Cheyenne Hub in northwest Weld County, Colorado to growing markets in the mid-continent United States. Western Frontier requests Commission authorization, to construct, install, own, operate, and maintain the following facilities:

• About 398.5 miles of 30-inch-diameter pipeline in Weld, Adams, Arapahoe, Elbert, Lincoln, Cheyenne, Kiowa, and Prowers Counties, Colorado; Hamilton, Kearny, Grant, Haskell, and Seward Counties, Kansas; and Beaver County, Oklahoma (Western Frontier Pipeline);

• About 9.7 miles of 16-inch-diameter lateral pipeline in Adams, Colorado (Wattenberg Lateral);

• A total of about 0.8 mile of 30- and 16-inch-diameter pipelines in Weld County, Colorado to interconnect the Western Frontier Pipeline with the Wyoming Interstate Company, Ltd. and Colorado Interstate Gas Company;

• Nine meter/regulating stations including two stations in Weld County and one station in Adams County, Colorado, one station in Grant County and two stations in Seward County, Kansas, and three stations in Beaver County, Oklahoma;

• Two compressor stations Weld and Adams Counties, Colorado with 10,000 hp each; and

• Associated pipeline facilities, including 4 pig launchers, 4 pig receivers, and 20 mainline block valves.

The general location of Western Frontier's proposed project facilities is shown on the map attached as appendix 1.²

² The appendices referenced in this notice ar enot being printed in the Federal Register. Copies are available on the Commission's website at the “RIMS” link or from the Commission's Public Reference and files Maintenance Branch, 888 First Street, NE, Room 2A, Washington, DC 20426, or call (2020)208-1371. For instructions on connecting to RIMS refer to the last page of this notice. Copies of the appendices were sent to all those receiving this notice in the mail.

Land Requirements for Construction

Western Frontier would construct a total of about 409 miles of new pipeline of which about 289 miles would be in Colorado, 109 miles would be in Kansas, and 11 miles would be in Oklahoma. Construction of the Western Frontier Pipeline Project would require about 5,708 acres of land including extra workspace and aboveground facilities. Of this total, about 4,920 acres would be disturbed by construction of the pipeline right-of-way, 740 acres would be disturbed by extra workspace and contractor/pipe yards, and 48 acres would be disturbed by the aboveground facilities.

Western Frontier proposes to generally use a 100-foot-wide construction right-of-way along the Western Frontier Pipeline and an 80-foot-wide construction right-of-way along the Wattenberg Lateral. Smaller construction right-of-way widths would be used in wetlands. Following construction and restoration of the right-of-way and temporary work spaces, Western Frontier proposes to retain a 50-foot-wide permanent pipeline right-of-way along both the Western Frontier Pipeline and the Wattenberg Lateral. Total land requirements for the permanent right-of-way would be about 2,474 acres with an additional 24 acres required for the operation of the new or modified aboveground facilities.

The EIS Process

The National Environmental Policy Act (NEPA) requires the Commission to take into account the environmental impacts that could result from an action whenever it considers the issuance of a Certificate of Public Convenience and Necessity. NEPA also requires us ³ to discover and address concerns the public may have about proposals. We call this “scoping.” The main goal of the scoping process is to focus the analysis in the EIS on the important environmental issues. By this Notice of Intent, the Commission requests public comments on the scope of the issues it will address in the EIS. All comments received are considered during the preparation of the EIS. State and local government representatives are encouraged to notify their constituents of this proposed action and encourage them to comment on their areas of concern.

³ “We”, “us”, “our” refer to the environmental staff of the Office of Energy Projects (OEP).

Our independent analysis of the issues will be published in the draft EIS which will be mailed to Federal, state, and local agencies, public interest groups, affected landowners and other interested individuals, newspapers, libraries, and the Commission's official service list for this proceeding. A 45-day comment period will be allotted for review of and comment on the draft EIS. We will consider all comments on the draft EIS and revise the document, as necessary, before issuing a final EIS. The final EIS will include our response to each comment received on the draft EIS and will be used by the Commission in its decision-making process to determine whether to approve the project.

Currently Identified Environmental Issues

The EIS will discuss impacts that could occur as a result of the construction and operation of the proposed project. We have already identified a number of issues that we think deserve attention based on a preliminary review of the proposed facilities and the environmental information provided by Western Frontier. These issues are listed below. This is a preliminary list of issues and may be changed based on your comments and our analysis.

• Geology and Soils

—Impact on prime farmland soils.

—Mixing of topsoil and subsoil during construction.

—Compaction of soil by heavy equipment.

—Erosion control and right-of-way restoration.

—Potential geologic hazards, including subsidence.

• Water Resources and Wetlands

—Potential effects on groundwater resources, including wellhead protection areas and private water supply wells.

—Effects on 3 perennial waterbodies.

—Crossing of 4 historic ditches/canals.

—Effects on 9.7 acres of wetlands.

• Biological Resources

—Short- and long-term effects of right-of-way clearing and maintenance on grasslands, wetlands, riparian areas, and vegetation communities of special concern.

—Effects on wildlife and fishery habitats.

—Potential impact on federally threatened species such as the Arkansas River shiner and Bald eagle and proposed federally threatened species such as the Mountain plover.

—Potential impact on state-listed sensitive species.

• Cultural Resources

—Effects on historic and prehistoric sites.

—Native American concerns.

• Socioeconomics

—Effects of the construction workforce on demands for services in surrounding areas.

• Land Use

—Effects on crop production.

—Potential impacts on residential areas.

—Effects of construction on about 381.7 acres of Conservation Reserve Program land.

—Effects on 279.9 acres of public lands.

—Potential impacts on future land uses and consistency with local land use plans and zoning.

—Visual effects of the aboveground facilities on surrounding areas.

• Air Quality and Noise

—Construction impacts on local air quality and noise environment.

—Impact on local air quality and noise environment as a result of operation of the compressor stations.

• Pipeline Reliability and Safety

—Assessment of public safety factors associated with natural gas pipelines.

• Cumulative Impact

—Effects of Western Frontier Project combined with that of other projects that have been or may be proposed in the same region and similar time frames.

• Alternatives

—Assessment of alternative routes, systems or energy sources to lessen or avoid impacts on the various resource areas.

Public Participation

You can make a difference by providing us with your specific comments or concerns about the project. By becoming a commentor, your concerns will be addressed in the EIS and considered by the Commission. You should focus on the potential environmental effects of the proposal, alternatives to the proposal (including alternative routes), and measures to avoid or lessen environmental impact. The more specific your comments, the more useful they will be. Please carefully follow these instructions to ensure that your comments are received in time and properly recorded:

• If you mail your comments, please send an original and two copies of your letter to: David P. Boergers, Secretary, Federal Energy Regulatory Commission, 888 First Street, NE., Room 1A, Washington, DC 20426.

• Label one copy of the comments for the attention of the Environmental Gas Branch I, PJ-11.1;

• Reference Docket Nos. CP02-11-000, CP02-12-000 and CP02-13-000;

• Submit your comments so that they will be received in Washington, DC on or before December 10, 2001.

Comments, protests and interventions may be filed electronically via the Internet in lieu of paper. See, 18 CFR 385.2001(a)(1)(iii) and the instructions on the Commission's web site at http://www.ferc.gov under the “e-Filing” link and link to the User's Guide. Before you can file comments you will need to create an account which can be created by clicking on “Login to File” and then “New User Account.”

Everyone who responds to this notice or comments throughout the EIS process will be retained on our mailing list. If you do not want to send comments at this time but still want to remain on our mailing list, please return the Information Request (appendix 3). If you do not return the Information Request, you will be taken off the mailing list.

Due to current events, we cannot guarantee that we will receive mail on a timely basis from the U.S. Postal Service, and we do not know how long this situation will continue. However, we continue to receive filings from private mail delivery services, including messenger services in a reliable manner. The Commission encourages electronic filing of any comments or interventions or protests to this proceeding. We will include all comments that we receive within a reasonable time frame in our environmental analysis of this project.

Public Scoping Meetings and Site Visit

In addition to or in lieu of sending written comments, we invite you to attend the public scoping meetings that we will conduct in the project area. The locations and times for these meetings are listed below.

Schedule of Public Scoping Meetings for the Western Frontier Pipeline Project Environmental Impact Statement

November 27, 2001, 7:00 p.m.—Greeley, Colorado, Aims Community College, Corporate Education Center, 5590 W. 11th Street, (970) 330-8008

November 27, 2001, 7:00 p.m.—Limon, Colorado, Limon Junior-Senior High School, Warren Mitchell Events Center, 874 F Avenue,(719) 775-2350

November 27, 2001, 7:00 p.m.—Ulysses, Kansas, Ulysses Middle School, Kepley Auditorium, 113 N. Colorado, (620) 356-3025

November 28, 2001, 7:00 p.m.—Aurora, Colorado, Community College of Aurora, Forum Building, 16000 E. Center Tech Parkway,(303) 360-4771

November 28, 2001, 7:00 p.m.—Lamar, Colorado, Lamar Community College, Bowman Building, 2401 S. Main Street, (719) 336-1525

November 28, 2001, 7:00 p.m.—Liberal, Kansas, Seward Community College, Humanities Building, 1801 N. Kansas, (800) 373-9951

The public scoping meetings are designed to provide you with more detailed information and another opportunity to offer your comments on the proposed project. Western Frontier representatives will be present at the scoping meetings to describe their proposal. Interested groups and individuals are encouraged to attend the meetings and to present comments on the environmental issues they believe should be addressed in the draft EIS. A transcript of each meeting will be made so that your comments will be accurately recorded.

On the dates of the meetings, we will also be conducting limited site visits to the project area. Anyone interested in participating in the site visit may contact the Commission's Office of External Affairs at (202) 208-1088 for more details. Participants must provide their own transportation.

Becoming an Intervenor

In addition to involvement in the EIS scoping process, you may want to become an official party to the proceeding or become an “intervenor.” Intervenors play a more formal role in the process. Among other things, intervenors have the right to receive copies of case-related Commission documents and filings by other intervenors. Likewise, each intervenor must provide 14 copies of its filings to the Secretary of the Commission and must send a copy of its filings to all other parties on the Commission's service list for this proceeding. If you want to become an intervenor you must file a motion to intervene according to Rule 214 of the Commission's Rules of Practice and Procedure (18 CFR 385.214) (see appendix 2).⁴ Only intervenors have the right to seek rehearing of the Commission's decision.

⁴ Interventions may also be filed electronically via the Internet in lieu of paper. See the previous discussion on filing comments electronically.

Affected landowners and parties with environmental concerns may be granted intervenor status upon showing good cause by stating that they have a clear and direct interest in this proceeding that would not be adequately represented by any other parties. You do not need intervenor status to have your environmental comments considered.

Availability of Additional Information

Copies of this filing are on file with the Commission and are available for public inspection. This filing may also be viewed on the web at http://www.ferc.gov using the “RIMS” link, select “Docket#” and follow the instructions (call 202-208-2222 for assistance).

Similarly, the “CIPS” link on the FERC Internet website provides access to the texts of formal documents issued by the Commission, such as orders, notices, and rulemakings. From the FERC Internet website, click on the “CIPS” link, select “Docket #” from the CIPS Menu, and follow the instructions. For assistance with access to CIPS, the CIPS helpline can be reached at (202) 208-2474.

Linwood A. Watson, Jr.,
Acting Secretary.

[FR Doc. 01-28463 Filed 11-13-01; 8:45 am]

BILLING CODE 6117-01-P